DEPARTMENT OF DEFENSE

Office of the Secretary

[Docket ID: DoD-2013-OS-0109]

Privacy Act of 1974; System of Records

AGENCY: Office of the Secretary of Defense, DoD.

ACTION: Notice to add a new System of Records.

SUMMARY: The Office of the Secretary of Defense proposes to add a new system of records in its inventory of record systems subject to the Privacy Act of 1974 (5 U.S.C. 552a), as amended.

DATES: This proposed action will be effective on July 8, 2013 unless comments are received which result in a contrary determination. Comments will be accepted on or before July 8, 2013.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Cindy Allard, Chief, OSD/JS Privacy Office, Freedom of Information Directorate, Washington Headquarters Service, 1155 Defense Pentagon, Washington, DC 20301-1155, or by telephone at (571) 372-0461.

SUPPLEMENTARY INFORMATION: The Defense Information Systems Agency notices for systems of records subject to the Privacy Act of 1974 (5 U.S.C. 552a), as amended, have been published in the Federal Register and are available from the address in FOR FURTHER INFORMATION CONTACT or from the Defense Privacy and Civil Liberties Office Web site at http://dpclo.defense.gov/privacy/SORNs/component/osd/index.html. The proposed system report, as required by 5 U.S.C. 552a(r) of the Privacy Act of 1974, as amended, was submitted on May 13, 2013, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: June 3, 2013.
Aaron Siegel,
Alternate OSD Federal Register Liaison Officer, Department of Defense.

DSCA 04

System name:

Adjunct Faculty Information Database.

System location:

Defense Institute of International Legal Studies (DIILS), 441 Elliot Avenue, Newport, RI 02841-1531.

Categories of individuals covered by the system:

Military (e.g., Active, National Guard, Reserve, and Coast Guard), civilian and contractor employees, Foreign Nationals and private sector personnel.

Categories of records in the system:

Full name, date and place of birth, Social Security Number (SSN), Department of Defense Identification Number (DoD ID Number), home and work addresses, work, fax, home and personal cell phone numbers, US government credit card number, personal and alternative email addresses, pay grade, military status (e.g., military rank, branch of service, retired and reserves), security clearance and current status, passport information, language capability, self-rating/level of expertise and abilities, training completed (e.g, trafficking in persons, human rights, code of conduct, etc.), biography, and professional references.

Authority for maintenance of the system:

10 U.S.C. 134, Under Secretary of Defense for Policy; DoD Directive 5105.65, Defense Security Cooperation Agency (DSCA); DoD Directive 5101.1, DoD Executive Agent; DoD Directive 5132.03, DoD Policy and Responsibilities Relating to Security Cooperation; and E.O. 9397 (SSN), as amended.

Purpose(s):

Defense Institute of International Legal Studies (DIILS) supports U.S. foreign policy and national security policy with rule of law training and education focused on human rights, international humanitarian law, and the law of armed conflict. The purpose of the Adjunct Faculty Information Database is to collect supplied information from qualified adjunct faculty members to make preparations for their overseas travel assignments as well as maintain a record of their qualifications for participation in future training programs. This data will also be used as a resource for future travel and training assignments, as a record of adjunct assignments and a basis to identify training requirements for the adjunct faculty.

Routine uses of records maintained in the system, including categories of users and the purposes of such uses:

In addition to those disclosures generally permitted under 5 U.S.C. 552a(b) of the Privacy Act of 1974, as amended, these records contained herein may specifically be disclosed outside the DoD as a routine use pursuant to 5 U.S.C. 552a(b)(3) as follows:

The DoD Blanket Routine Uses set forth at the beginning of the Office of the Secretary of Defense (OSD) compilation of systems of records notices may apply to this system.

Policies and practices for storing, retrieving, accessing, retaining, and disposing of records in the system:

Storage:

Paper and electronic storage media.

Retrievability:

Name, SSN and/or DoD ID Number.

Safeguards:

Records are maintained in a controlled facility. Physical entry is restricted by the use of locks, guards, and is accessible only to authorized personnel. Access to records is limited to person(s) responsible for servicing the record in performance of their official duties and who are properly screened and cleared for need-to-know. Access to computerized data is restricted by centralized access control to include the use of Common Access cards (CAC), passwords (which are changed periodically), file permissions, firewalls, and intrusion alert systems, including the use of a “block out” restriction feature when viewing SSNs.

Retention and disposal:

Temporary: Update periodically; destroy when no longer required for reference.

System manager(s) and address:

Training Specialist, Curriculum Department, Defense Institute of International Legal Studies, 441 Elliot Avenue, Newport, RI 02841-1531.

Notification procedure:

Individuals seeking to determine whether information about themselves is contained in this system of records should address written inquiries to the Training Specialist, Curriculum Department, Defense Institute of International Legal Studies, 441 Elliot Avenue, Newport, RI 02841-1531.

Written requests should include the full name, current address and telephone number, and the number of this system of records notice and be signed.

Record access procedures:

Individuals seeking access to records about themselves contained in this system should address written inquiries to the Office of the Secretary of Defense/Joint Staff, Freedom of Information Act Requester Services, 4800 Mark Center Drive, Alexandria, VA 22350-3100.

Written requests should include the full name, current address and telephone number, and the number of this system of records notice and be signed.

Contesting record procedures:

The Office of the Secretary of Defense (OSD) rules for accessing records, for contesting contents and appealing initial agency determinations are published in OSD Administrative Instruction 81; 32 CFR part 311; or may be obtained from the system manager.

Record source categories:

Individual.

Exemptions claimed for the system:

None.

[FR Doc. 2013-13498 Filed 6-6-13; 8:45 am]

BILLING CODE 5001-06-P